ENVIRONMENTAL PROTECTION AGENCY

40 CFR Part 52

[DE102-1100; FRL-8291-7]

Approval and Promulgation of Air Quality Implementation Plans; Delaware; Update to Materials Incorporated by Reference

AGENCY: Environmental Protection Agency (EPA).

ACTION: Final rule; notice of administrative change.

SUMMARY: EPA is updating the materials submitted by Delaware that are incorporated by reference (IBR) into the State implementation plan (SIP). The regulations affected by this update have been previously submitted by the Delaware Department of Natural Resources and Environmental Control (DNREC) and approved by EPA. This update affects the SIP materials that are available for public inspection at the National Archives and Records Administration (NARA), the Air and Radiation Docket and Information Center located at EPA Headquarters in Washington, D.C., and the Regional Office.

EFFECTIVE DATE: This action is effective April 3, 2007.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State revises as necessary to address the unique air pollution problems. Therefore, EPA from time to time must take action on SIP revisions containing new and/or revised regulations to make them part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On December 7, 1998 (63 FR 67407), EPA published a document in the Federal Register beginning the new IBR procedure for Delaware. On June 21, 2004 (69 FR 34285), EPA published an update to the IBR material for Delaware. In this document, EPA is doing the following:

1. Announcing the update to the IBR material as of February 15, 2007.

2. Making corrections to the following entries listed in the paragraph 52.420(c) chart, as described below:

a. Revising the title of Regulation 1102 (formerly Regulation 2) so that it restores the text of the revised title as published in the December 7, 2006 Federal Register (71 FR 70883 at 70885).

b. Adding an entry for Regulation 1102, Appendix A with a State effective date of June 1, 1997. EPA had approved the addition of this appendix as a SIP revision on January 13, 2000 (65 FR 2005), but had inadvertently omitted a corresponding entry as an addition to 40 CFR 52.420(c) at the time of EPA's approval action.

c. For the entries Regulation 1102, Sections 1, 6, 11, and 12, adding text in the “Additional explanation” column to indicate the SIP effective date.

d. For the entry Regulation 24, Section 10, removing the text from the “Additional explanation” column.

e. For the entry Regulation 31, Appendix 6(a)(9), correcting a typographical error in the ``Title/subject” column.

3. Making corrections to the following entries listed in the paragraph 52.420(d) chart, as described below:

a. Renaming the title of the second column from “Title/subject” to “Permit number.”

b. Entry for Phoenix Steel Co.—Electric Arc Furnaces Charging & Tapping #2—Correcting a typographical error in the ``Permit number” column.

EPA has determined that today's rule falls under the ``good cause” exemption in section 553(b)(3)(B) of the Administrative Procedures Act (APA), which, upon finding ``good cause,” authorizes agencies to dispense with public participation, and section 553(d)(3), which allows an agency to make a rule effective immediately (thereby avoiding the 30-day delayed effective date otherwise provided for in the APA). Today's rule simply codifies provisions which are already in effect as a matter of law in Federal and approved State programs. Under section 553 of the APA, an agency may find good cause where procedures are ``impractical, unnecessary, or contrary to the public interest.” Public comment is ``unnecessary” and contrary to the “public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by State law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it approves a state rule implementing a Federal standard. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Delaware SIP compilations had previously afforded interested parties the opportunity to file a petition for judicial review in the United States Court of Appeals for the appropriate circuit within 60 days of such rulemaking action. Thus, EPA sees no need in this action to reopen the 60-day period for filing such petitions for judicial review for this “Identification of plan” reorganization update action for Delaware.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: March 9, 2007.
William T. Wisniewski,
Acting Regional Administrator, Region III.

40 CFR part 52 is amended as follows:

PART 52—[AMENDED]

1. The authority for citation for part 52 continues to read as follows:

Authority: 42.U.S.C. 7401 et seq.

Subpart I—Delaware

2. Section 52.420 is amended by revising paragraphs (b), (c), and (d) to read as follows:

52.420 Identification of plan.

* * * * *

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after February 15, 2007 will be incorporated by reference in the next update to the SIP compilation.

(2) EPA Region III certifies that the rules/regulations provided by EPA at the addresses in paragraph (b)(3) of this section are an exact duplicate of the officially promulgated State rules/regulations which have been approved as part of the State implementation plan as of February 15, 2007.

(3) Copies of the materials incorporated by reference may be inspected at the EPA Region III Office at 1650 Arch Street, Philadelphia, PA 19103; the EPA, Air and Radiation Docket and Information Center, Room Number 3334, EPA West Building, 1301 Constitution Avenue, NW., Washington, DC 20460; or at the National Archives and Records Administration (NARA). For information on the availability of this material at NARA, call 202-741-6030, or go to: http://www.archives.gov/federal_register/code_of_federal_regulations/ibr_locations.html.

(c) EPA approved regulations.

EPA-Approved Regulations in the Delaware SIP
State citation | Title/subject | State effective date | EPA approval date | Additional explanation
Regulation 1 Definitions and Administrative Principles
Section 1 | General Provisions | 5/28/74 | 03/23/76, 41 FR 12010
Section 2 | Definitions | 10/11/98 | 3/11/99, 64 FR 12085
Section 2 | Definitions | 2/8/95 | 9/9/99, 64 FR 48961 | New Definitions: (Effective date: 1/7/77). —Capacity factor. —Continuous monitoring system. —Emission standard. —Equipment shutdown. —Excess Emissions. (Effective Date: 9/26/78). —Sulfuric Acid Plant.
|  |  |  | Revised Definitions: (Effective date: 1/7/77). —Existing Installation, Equipment, Source, or Operation. —New Installation, Equipment, Source, or Operation.
Section 2 | Definitions | 2/11/03 | 11/1/05, 70 FR 65847 | Added definition of PM2.5
Section 3 | Administrative Principles | 1/7/72 | 05/31/72, 37 FR 10842
Section 4 | Abbreviations | 2/1/81 | 3/15/82, 48 FR 11013 | Abbreviation of “ACAA” only.
Regulation 1102 Permits (Formerly “Regulation 2—Permits”)
Section 1 | General Provisions | 6/15/06 | 12/7/06, 71 FR 70883 | SIP effective date is 2/5/07.
Section 2 | Applicability | 6/1/97 | 1/13/00, 65 FR 2048
Section 3 | Applications Prepared by Interested Parties | 6/1/97 | 1/13/00, 65 FR 2048
Section 4 | Cancellation of Construction Permits | 6/1/97 | 1/13/00, 65 FR 2048
Section 5 | Action on Applications | 6/1/97 | 1/13/00, 65 FR 2048
Section 6 | Denial, Suspension or Revocation of Operating Permits | 6/15/06 | 12/7/06, 71 FR 70883 | SIP effective date is 2/5/07.
Section 7 | Transfer of Permit/Registration Prohibited | 6/1/97 | 1/13/00, 65 FR 2048
Section 8 | Availability of Permit/Registration | 6/1/97 | 1/13/00, 65 FR 2048
Section 9 | Registration Submittal | 6/1/97 | 1/13/00, 65 FR 2048
Section 10 | Source Category Permit Application | 6/1/97 | 1/13/00, 65 FR 2048
Section 11 | Permit Application | 6/15/06 | 12/7/06, 71 FR 70883 | SIP effective date is 2/5/07.
Section 12 | Public Participation | 6/15/06 | 12/7/06, 71 FR 70883 | SIP effective date is 2/5/07.
Section 13 | Department Records | 6/1/97 | 1/13/00, 65 FR 2048
Appendix A | [List of Permit Exemptions] | 6/1/97 | 1/13/00, 65 FR 2048
Regulation 3 Ambient Air Quality Standards
Section 1 | General Provisions | 2/11/03 | 11/1/05, 70 FR 65847 | Addition of section 1.6.j.
Section 2 | General Restrictions | 3/11/80 | 10/30/81, 46 FR 53663
Section 3 | Suspended Particulates | 3/11/80 | 10/30/81, 46 FR 53663
Section 4 | Sulfur Dioxide | 3/11/80 | 10/30/81, 46 FR 53663
Section 5 | Carbon Monoxide | 3/11/80 | 10/30/81, 46 FR 53663
Section 6 | Ozone | 2/11/03 | 11/1/05, 70 FR 65847 | Addition to section 6.1—“This standard shall be applicable to New Castle and Kent Counties.”; Addition of section 6.2.
Section 8 | Nitrogen Dioxide | 3/11/80 | 10/30/81, 46 FR 53663
Section 10 | Lead | 3/11/80 | 3/11/82, 48 FR 10535
Section 11 | PM10 and PM2.5 Particulates | 2/11/03 | 11/1/05, 70 FR 65847 | Section title added “and PM2.5”; Addition of sections 11.2.a. and 11.2.b.
Regulation 4 Particulate Emissions From Fuel Burning Equipment
Section 1 | General Provisions | 5/28/74 | 3/23/76, 41 FR 12010
Section 2 | Emission Limits | 5/28/74 | 3/23/76, 41 FR 12010
Regulation 5 Particulate Emissions From Industrial Process Operations
Section 1 | General Provisions | 5/28/74 | 3/23/76, 41 FR 12010
Section 2 | General Restrictions | 5/28/74 | 3/23/76, 41 FR 12010
Section 3 | Restrictions on Hot Mix Asphalt Batching Operations | 5/28/74 | 3/23/76, 41 FR 12010
Section 4 | Restrictions on Secondary Metal Operations | 12/2/77 | 07/30/79, 44 FR 44497
Section 5 | Restrictions on Petroleum Refining Operations | 9/26/78 | 9/9/99, 64 FR 48961
Section 6 | Restrictions on Prill Tower Operations | 9/26/78 | 08/01/80, 45 FR 51198
Section 7 | Control of Potentially Hazardous Particulate Matter | 1/7/72 | 5/31/72, 37 FR 10842
Regulation 6 Particulate Emissions From Construction and Materials Handling
Section 1 | General Provisions | 1/7/72 | 05/31/72, 37 FR 10842
Section 2 | Demolition | 5/28/74 | 03/23/76, 41 FR 12010
Section 3 | Grading, Land Clearing, Excavation and Use of Non-Paved Roads | 5/28/74 | 03/23/76, 41 FR 12010
Section 4 | Material Movement | 5/28/74 | 03/23/76, 41 FR 12010
Section 5 | Sandblasting | 5/28/74 | 03/23/76, 41 FR 12010
Section 6 | Material Storage | 5/28/74 | 03/23/76, 41 FR 12010
Regulation 7 Particulate Emissions From Incineration
Section 1 | General Provisions | 05/28/74 | 03/23/76, 41 FR 12010
Section 2 | Restrictions | 12/8/83 | 10/3/84 49, FR 39061 | Provisions were revised 10/13/89 by State, but not submitted to EPA as SIP revisions.
Regulation 8 Sulfur Dioxide Emissions From Fuel Burning Equipment
Section 1 | General Provisions | 12/8/83 | 10/3/84, 49 FR 39061
Section 2 | Limit on Sulfur Content of Fuel | 5/9/85 | 12/08/86, 51 FR 44068
Section 3 | Emissions Control in Lieu of Sulfur Content Limits of Section 2 | 5/9/85 | 12/08/86, 51 FR 44068
Regulation 9 Emissions of Sulfur Compounds From Industrial Operations
Section 1 | General Provisions | 5/9/85 | 12/08/86, 51 FR 44068
Section 2 | Restrictions on Sulfuric Acid Manufacturing Operations | 9/26/78 | 9/9/99, 64 FR 48961 | 1. On 3/11/1982 (47 FR 10535), EPA approved revisions to Section 2 with a State effective date of 12/29/1980.
|  |  |  | 2. Section 2.2 (State effective date: 9/26/1980) is federally enforceable as a Section 111(d) plan and codified at 40 CFR 62.1875.
Section 3 | Restriction on Sulfur Recovery Operations | 5/28/74 | 03/23/76, 41 FR 12010
Section 4 | Stack Height Requirements | 4/18/83 | 09/21/83, 48 FR 42979
Regulation 10 Control of Sulfur Dioxide Emissions—Kent and Sussex Counties
Section 1 | Requirements for Existing Sources of Sulfur Dioxide | 1/7/72 | 05/31/72, 37 FR 10842
Section 2 | Requirements for New Sources of Sulfur Dioxide | 5/28/74 | 03/23/76, 41 FR 12010
Regulation 11 Carbon Monoxide Emissions From Industrial Process Operations—New Castle County
Section 1 | General Provisions | 5/28/74 | 03/23/76, 41 FR 12010
Section 2 | Restrictions on Petroleum Refining Operations | 1/7/72 | 05/31/72, 37 FR 10842 | Citation revised 3/23/76 41 FR 12010.
Regulation 12 Control of Nitrogen Oxide Emissions
Section 1 | Applicability | 11/24/93 | 6/14/01, 66 FR 32234
Section 2 | Definitions | 11/24/93 | 6/14/01, 66 FR 32234
Section 3 | Standards | 11/24/93 | 6/14/01, 66 FR 32234
Section 4 | Exemptions | 11/24/93 | 6/14/01, 66 FR 32234
Section 5 | Alternative and Equivalent RACT Determination | 11/24/93 | 6/14/01, 66 FR 32234
Section 6 | RACT Proposals | 11/24/93 | 6/14/01, 66 FR 32234
Section 7 | Compliance, Certification, Recordkeeping, and Reporting Requirements | 11/24/93 | 6/14/01, 66 FR 32234
Regulation 13 Open Burning
Section 1 | Prohibitions—All Counties | 2/8/95 | 03/12/97, 62 FR 11329 | EPA effective date is 5/1/98.
Section 2 | Prohibitions—Specific Counties | 2/8/95 | 03/12/97, 62 FR 11329 | EPA effective date is 5/1/98.
Section 3 | General Restrictions—All Counties | 2/8/95 | 03/12/97, 62 FR 11329 | EPA effective date is 5/1/98.
Section 4 | Exemptions—All Counties | 2/8/95 | 03/12/97, 62 FR 11329 | EPA effective date is 5/1/98.
Regulation 14 Visible Emissions
Section 1 | General Provisions | 7/17/84 | 07/02/85, 50 FR 27244
Section 2 | Requirements | 7/17/84 | 07/02/85, 50 FR 27244
Section 3 | Alternate Opacity Requirements | 7/17/84 | 07/02/85, 50 FR 27244
Section 4 | Compliance with Opacity Standards | 7/17/84 | 07/02/85, 50 FR 27244
Regulation 15 Air Pollution Alert and Emergency Plan
Section 1 | General Provisions | 1/7/72 | 05/31/72, 37 FR 10842
Section 2 | Stages and Criteria | 3/29/88 | 04/06/94, 59 FR 16140
Section 3 | Required Actions | 1/7/72 | 05/31/72, 37 FR 10842 | Delaware removed the word “standby” from Table III, section 3B effective 5/28/74, but did not submit as a SIP revision.
Section 4 | Standby Plans | 1/7/72 | 05/31/72, 37 FR 10842
Regulation 16 Sources Having an Interstate Air Pollution Potential
Section 1 | General Provisions | 1/7/72 | 05/31/72, 37 FR 10842 | Delaware revised provision effective 5/28/74, but did not submit as a SIP revision.
Section 2 | Limitations | 1/7/72 | 05/31/72, 37 FR 10842
Section 3 | Requirements | 1/7/72 | 05/31/72, 37 FR 10842
Regulation 17 Source Monitoring, Recordkeeping and Reporting
Section 1 | Definitions and Administrative Principles | 1/11/93 | 02/28/96, 61 FR 7453
Section 2 | Sampling and Monitoring | 7/17/84, | 07/02/85, 50 FR 27244 | Former SIP Sections 1 through 5 respectively; citation revised 2/28/96, 62 FR 7453.
Section 3 | Minimum Emission Monitoring Requirements for Existing Sources | 1/10/77 | 8/25/81, 46 FR 43150
Section 4 | Performance Specifications | 1/11/93 | 9/9/99, 64 FR 48961
Section 5 | Minimum Data Requirements | 1/10/77 | 8/25/81, 46 FR 43150
Section 6 | Data Reduction | 1/11/93 | 9/9/99, 64 FR 48961
Section 7 | Emission Statement | 1/11/93 | 02/28/96, 61 FR 7453
Regulation 23 Standards of Performance for Steel Plants: Electric Arc Furnaces
Section 1 | Applicability | 12/2/77 | 07/30/79, 44 FR 44497 | Correction published 8/20/80, 45 FR 55422.
Section 2 | Definitions | 04/18/83 | 09/21/83, 49 FR 39061
Section 3 | Standard for Particulate Matter | 04/18/83 | 09/21/83, 49 FR 39061
Section 4 | Monitoring of Operations | 12/2/77 | 07/30/79, 44 FR 44497 | Correction published 8/20/80, 45 FR 55422.
Section 5 | Test Methods and Procedures | 12/2/77 | 07/30/79, 44 FR 44497 | Correction published 8/20/80, 45 FR 55422.
Regulation 24 Control of Volatile Organic Compound Emissions
Section 1 | General Provisions | 1/11/93 | 5/3/95, 60 FR 21707
Section 2 | Definitions | 1/11/02 | 11/14/03, 68 FR 64540
Section 3 | Applicability | 1/11/93 | 5/3/95, 60 FR 21707
Section 4 | Compliance Certification, Recordkeeping, and Reporting Requirements for Coating Sources | 1/29/94 | 01/26/96, 61 FR 2419
Section 5 | Compliance Certification, Recordkeeping, and Reporting Requirements for Non-Coating Sources | 1/11/93 | 5/3/95, 60 FR 21707
Section 7 | Circumvention | 1/11/93 | 5/3/95, 60 FR 21707
Section 8 | Handling, Storage, and Disposal of Volatile Organic Compounds (VOCs) | 11/29/94 | 01/26/96, 61 FR 2419
Section 9 | Compliance, Permits, Enforceability | 1/11/93 | 5/3/95, 60 FR 21707
Section 10 | Aerospace Coatings | 2/11/03 | 3/24/04, 69 FR 13737
Section 11 | Mobile Equipment Repair and Refinishing | 11/11/01 | 11/22/02, 67 FR 70315
Section 12 | Surface Coating of Plastic Parts | 11/29/94 | 01/26/96, 61 FR 2419
Section 13 | Automobile and Light-Duty Truck Coating Operations | 1/11/93 | 5/3/95, 60 FR 21707
Section 14 | Can Coating | 1/11/93 | 5/3/95, 60 FR 21707
Section 15 | Coil Coating | 1/11/93 | 5/3/95, 60 FR 21707
Section 16 | Paper Coating | 1/11/93 | 5/3/95, 60 FR 21707
Section 17 | Fabric Coating | 1/11/93 | 5/3/95, 60 FR 21707
Section 18 | Vinyl Coating | 1/11/93 | 5/3/95, 60 FR 21707
Section 19 | Coating of Metal Furniture | 1/11/93 | 5/3/95, 60 FR 21707
Section 20 | Coating of Large Appliances | 1/11/93 | 5/3/95, 60 FR 21707
Section 21 | Coating of Magnet Wire | 11/29/94 | 01/26/96, 61 FR 2419
Section 22 | Coating of Miscellaneous Metal Parts | 1/11/93 | 5/3/95, 60 FR 21707
Section 23 | Coating of Flat Wood Panelling | 1/11/93 | 5/3/95, 60 FR 21707
Section 24 | Bulk Gasoline Plants | 1/11/93 | 5/3/95, 60 FR 21707
Section 25 | Bulk Gasoline Terminals | 11/29/94 | 01/26/96, 61 FR 2419
Section 26 | Gasoline Dispensing Facility—Stage I Vapor Recovery | 1/11/02 | 11/14/03 68 FR 64540
Section 27 | Gasoline Tank Trucks | 1/11/93 | 5/3/95, 60 FR 21707
Section 28 | Petroleum Refinery Sources | 1/11/93 | 5/3/95, 60 FR 21707
Section 29 | Leaks from Petroleum Refinery Equipment | 11/29/94 | 01/26/96, 61 FR 2419
Section 30 | Petroleum Liquid Storage in External Floating Roof Tanks | 11/29/94 | 01/26/96, 61 FR 2419
Section 31 | Petroleum Liquid Storage in Fixed Roof Tanks | 11/29/94 | 01/26/96, 61 FR 2419
Section 32 | Leaks from Natural Gas/Gasoline Processing Equipment | 11/29/94 | 01/26/96, 61 FR 2419
Section 33 | Solvent Metal Cleaning and Drying | 11/11/01 | 11/22/02 67 FR 70315
Section 34 | Cutback and Emulsified Asphalt | 1/11/93 | 5/3/95, 60 FR 21707
Section 35 | Manufacture of Synthesized Pharmaceutical Products | 11/29/94 | 01/26/96, 61 FR 2419
Section 36 | Stage II Vapor Recovery | 1/11/93 | 6/10/94, 59 FR 29956
Section 37 | Graphic Arts Systems | 11/29/94 | 01/26/96, 61 FR 2419
Section 38 | Petroleum Solvent Dry Cleaners | 1/11/93 | 5/3/95, 60 FR 21707
Section 39 | Perchloroethylene Dry Cleaning | 1/11/93 | 5/3/95, 60 FR 21707
Section 40 | Leaks from Synthetic Organic Chemical, Polymer, and Resin Manufacturing Equipment | 1/11/93 | 5/3/95, 60 FR 21707
Section 41 | Manufacture of High-Density Polyethylene, Polypropylene and Polystyrene Resins | 1/11/93 | 5/3/95, 60 FR 21707
Section 42 | Air Oxidation Processes in the Synthetic Organic Chemical Manufacturing Industry | 1/11/93 | 5/3/95, 60 FR 21707
Section 43 | Bulk Gasoline Marine Tank Vessel Loading Facilities | 11/29/94 | 01/26/96, 61 FR 2419
Section 44 | Batch Processing Operations | 11/29/94 | 01/26/96, 61 FR 2419
Section 45 | Industrial Cleaning Solvents | 11/29/94 | 01/26/96, 61 FR 2419
Section 47 | Offset Lithographic Printing | 11/29/94 | 05/14/97, 62 FR 26399
Section 48 | Reactor Processes and Distillation Operations in the Synthetic Organic Chemical Manufacturing Industry | 11/29/94 | 01/26/96, 61 FR 2419
Section 49 | Control of Volatile Organic Compound Emissions from Volatile Organic Liquid Storage Vessels | 11/29/94 | 01/26/96, 61 FR 2419
Section 50 | Other Facilities that Emit Volatile Organic Compounds (VOCs) | 11/29/94 | 03/12/97, 62 FR 11329 | EPA effective date for Sections 50(a)(5) and 50(b)(3) is 5/1/98.
Appendix “A” | Test Methods and Compliance Procedures: General Provisions | 11/29/94 | 01/26/96, 61 FR 2419
Appendix “B” | Test Methods and Compliance Procedures: Determining the Volatile Organic Compound (VOC) Content of Coatings and Inks | 1/11/93 | 5/3/95, 60 FR 21707
Appendix “C” | Test Methods and Compliance Procedures: Alternative Compliance Methods for Surface Coating | 1/11/93 | 5/3/95, 60 FR 21707
Appendix “D” | Test Methods and Compliance Procedures: Emission Capture and Destruction or Removal Efficiency and Monitoring Requirements | 11/29/94 | 01/26/96, 61 FR 2419
Appendix “E” | Test Methods and Compliance Procedures: Determining the Destruction or Removal Efficiency of a Control Device | 1/11/93 | 5/3/95, 60 FR 21707
Appendix “F” | Test Methods and Compliance Procedures: Leak Detection Methods for Volatile Organic Compounds (VOCs) | 1/11/93 | 5/3/95, 60 FR 21707
Appendix “G” | Performance Specifications for Continuous Emissions Monitoring of Total Hydrocarbons | 1/11/93 | 5/3/95, 60 FR 21707
Appendix “H” | Quality Control Procedures for Continuous Emission Monitoring Systems (CEMS) | 1/11/93 | 5/3/95, 60 FR 21707
Appendix “I” | Method to Determine Length of Rolling Period for Liquid—Liquid Material Balance Method | 11/29/94 | 01/26/96, 61 FR 2419
Appendix “J” | Procedures for Implementation of Regulations Covering Stage II Vapor Recovery Systems for Gasoline Dispensing Facilities | 1/11/93 | 6/10/94, 59 FR 29956
Appendix “J1” | Certified Stage II Vapor Recovery Systems | 1/11/93 | 6/10/94, 59 FR 29956
Appendix “J2” | Pressure Decay/Leak Test Procedure for Verification of Proper Functioning of Stage I & Stage II Vapor Recovery Equipment | 1/11/93 | 6/10/94, 59 FR 29956
Appendix “J3” | Dynamic Backpressure (Dry) Test and Liquid Blockage (Wet) Test Procedure for Verification of Proper Functioning of Stage II Vapor Balance Recovery Systems | 01/11/93 | 6/10/94, 59 FR 29956
Appendix “K” | Emission Estimation Methodologies | 11/29/94 | 01/26/96, 61 FR 2419
Appendix “L” | Method to Determine Total Organic Carbon for Offset Lithographic Solutions | 11/29/94 | 01/26/96, 61 FR 2419
Appendix “M” | Test Method for Determining the Performance of Alternative Cleaning Fluids | 11/29/94 | 01/26/96, 61 FR 2419
Regulation 25 Requirements for Preconstruction Review
Section 1 | General Provisions | 1/1/93 (As Revised 5/1/99) | 2/7/01, 66 FR 9211 | Excluding §§ 1.2, 1.6, 1.9(L), 1.9(M), 1.9(N), 1.9(O), which relate to Prevention of Significant Deterioration.
Section 2 | Emission Offset Provisions (EOP) | 1/1/93 (As Revised 5/1/99) | 2/7/01, 66 FR 9211
Section 3 | Prevention of Significant Deterioration of Air Quality | 5/15/90 | 01/27/93, 58 FR 26689
Regulation 26 Motor Vehicle Emissions Inspection Program
Section 1 | Applicability and Definitions | 2/12/01 | 11/27/03, 68 FR 66343 | Regulation 26 provisions apply to Sussex County only, effective November 1, 1999.
Section 2 | General Provisions | 2/12/01 | 11/27/03, 68 FR 66343
Section 3 | Registration Requirement | 5/9/85 | 12/08/86, 51 FR 44068
Section 4 | Exemptions | 2/12/01 | 11/27/03, 68 FR 66343
Section 5 | Enforcement | 7/6/82 | 10/17/83, 48 FR 46986
Section 6 | Compliance, Waivers, Extensions of Time | 2/12/01 | 11/27/03, 68 FR 66343
Section 7 | Inspection Facility Requirements | 7/6/82 | 10/17/83, 48 FR 46986
Section 8 | Certification of Motor Vehicle Officers | 7/6/82 | 10/17/83, 48 FR 46986
Section 9 | Calibration and Test Procedures and Approved Equipment | 2/12/01 | 11/27/03, 68 FR 66343
Technical Memorandum 1 | Delaware Division of Motor Vehicles Vehicle Exhaust Emissions Test | 2/12/01 | 11/27/03, 68 FR 66343
Regulation 27 Stack Heights
Section 1 | General Provisions | 4/18/83 | 09/21/83, 48 FR 42979
Section 2 | Definitions Specific to this Regulation | 12/7/88 | 06/29/90, 55 FR 26689
Section 3 | Requirements for Existing and New Sources | 2/18/87 | 06/29/90, 55 FR 26689
Section 4 | Public Notification | 2/18/87 | 06/29/90, 55 FR 26689
Regulation 31 Low Enhanced Inspection and Maintenance Program
Section 1 | Applicability | 10/11/01 | 11/27/03, 68 FR 66343
Section 2 | Low Enhanced I/M Performance Standard | 10/11/01 | 1/27/03, 68 FR 66343
Section 3 | Network Type and Program Evaluation | 10/11/01 | 11/27/03, 68 FR 66343
Section 4 | Test Frequency and Convenience | 6/11/99 | 9/30/99, 64 FR 52657
Section 5 | Vehicle Coverage | 10/11/01 | 11/27/03, 68 FR 66343
Section 6 | Test Procedures and Standards | 10/11/01 | 11/27/03, 68 FR 66343
Section 7 | Waivers and Compliance via Diagnostic Inspection | 10/11/01 | 11/27/03, 68 FR 66343
Section 8 | Motorist Compliance Enforcement | 10/11/01 | 11/27/03, 68 FR 66343
Section 9 | Enforcement Against Operators and Motor Vehicle Technicians | 10/11/01 | 11/27/03, 68 FR 66343
Section 10 | Improving Repair Effectiveness | 8/13/98 | 9/30/99, 64 FR 52657
Section 11 | Compliance with Recall Notices | 8/13/98 | 9/30/99, 64 FR 52657
Section 12 | On-Road Testing | 8/13/98 | 9/30/99, 64 FR 52657
Section 13 | Implementation Deadlines | 10/11/01 | 11/27/03, 68 FR 66343
Appendix 1(d) | Commitment to Extend the I/M Program to the Attainment Date From Secretary Tulou to EPA Administrator W. Michael McCabe | 8/13/98 | 9/30/99, 64 FR 52657
Appendix 3(a)(7) | Exhaust Emission Limits According to Model Year | 8/13/98 | 9/30/99, 64 FR 52657
Appendix 3(c)(2) | VMASTM Test Procedure | 6/11/99 | 9/30/99, 64 FR 52657
Appendix 4(a) | Sections from Delaware Criminal and Traffic Law Manual | 8/13/98 | 9/30/99, 64 FR 52657
Appendix 5(a) | Division of Motor Vehicles Policy on Out of State Renewals | 8/13/98 | 9/30/99, 64 FR 52657
Appendix 5(f) | New Model Year Clean Screen | 10/11/01 | 11/27/03, 68 FR 66343
Appendix 6(a) | Idle Test Procedure | 10/11/01 | 11/27/03, 68 FR 66343
Appendix 6(a)(5) | Vehicle Emission Repair Report Form | 8/13/98 | 9/30/99, 64 FR 52657
Appendix 6(a)(8) | Evaporative System Integrity (Pressure) Test | 10/11/01 | 11/27/03, 68 FR 66343
Appendix 6(a)(9) | On-board Diagnostic Test Procedure OBD II Test Procedure | 10/11/01 | 11/27/03, 68 FR 66343
Appendix 7(a) | Emission Repair Technician Certification Process | 8/13/98 | 9/30/99, 64 FR 52657
Appendix 8(a) | Registration Denial System Requirements Definition | 8/13/98 | 9/30/99, 64 FR 52657
Appendix 9(a) | Enforcement Against Operators and Inspectors | 10/11/01 | 11/27/03, 68 FR 66343
Regulation 35 Conformity of General Federal Actions to the State Implementation Plans
Section 1 | Purpose | 8/14/96 | 7/15/97, 62 FR 37722
Section 2 | Definitions | 8/14/96 | 07/15/97, 62 FR 37722
Section 3 | Applicability | 8/14/96 | 07/15/97, 62 FR 37722
Section 4 | Conformity Analysis | 8/14/96 | 07/15/97, 62 FR 37722
Section 5 | Reporting Requirements | 8/14/96 | 07/15/97, 62 FR 37722
Section 6 | Public Participation and Consultation | 8/14/96 | 07/15/97, 62 FR 37722
Section 7 | Frequency of Conformity Determinations | 8/14/96 | 07/15/97, 62 FR 37722
Section 8 | Criteria for Determining Conformity of General Federal Actions | 8/14/96 | 07/15/97, 62 FR 37722
Section 9 | Procedures for Conformity Determinations of General Federal Actions | 8/14/96 | 07/15/97, 62 FR 37722
Section 10 | Mitigation of Air Quality Impacts | 8/14/96 | 07/15/97, 62 FR 37722
Section 11 | Savings Provision | 8/14/96 | 07/15/97, 62 FR 37722
Regulation 37 NOX Budget Program
Section 1 | General Provisions | 12/11/99 | 3/9/00, 65 FR 12481
Section 2 | Applicability | 12/11/99 | 3/9/00, 65 FR 12481
Section 3 | Definitions | 12/11/99 | 3/9/00, 65 FR 12481
Section 4 | Allowance Allocation | 12/11/99 | 3/9/00, 65 FR 12481
Section 5 | Permits | 12/11/99 | 3/9/00, 65 FR 12481
Section 6 | Establishment of Compliance Accounts | 12/11/99 | 3/9/00, 65 FR 12481
Section 7 | Establishment of General Accounts | 12/11/99 | 3/9/00, 65 FR 12481
Section 8 | Opt In Provisions | 12/11/99 | 3/9/00, 65 FR 12481
Section 9 | New Budget Source Provisions | 12/11/99 | 3/9/00, 65 FR 12481
Section 10 | NOX Allowance Tracking System (NATS) | 12/11/99 | 3/9/00, 65 FR 12481
Section 11 | Allowance Transfer | 12/11/99 | 3/9/00, 65 FR 12481
Section 12 | Allowance Banking | 12/11/99 | 3/9/00, 65 FR 12481
Section 13 | Emission Monitoring | 12/11/99 | 3/9/00, 65 FR 12481
Section 14 | Recordkeeping | 12/11/99 | 3/9/00, 65 FR 12481
Section 15 | Emissions Reporting | 12/11/99 | 3/9/00, 65 FR 12481
Section 16 | End-of Season Reconciliation | 12/11/99 | 3/9/00, 65 FR 12481
Section 17 | Compliance Certification | 12/11/99 | 3/9/00, 65 FR 12481
Section 18 | Failure to Meet Compliance Requirements | 12/11/99 | 3/9/00, 65 FR 12481
Section 19 | Program Audit | 12/11/99 | 3/9/00, 65 FR 12481
Section 20 | Program Fees | 12/11/99 | 3/9/00, 65 FR 12481
Appendix “A” | NOX Budget Program | 12/11/99 | 3/9/00, 65 FR 12481
Regulation 39 Nitrogen Oxides (NOX) Budget Trading Program
Section 1 | Purpose | 12/11/00 | 5/17/01, 66 FR 27459
Section 2 | Emission Limitation | 12/11/00 | 5/17/01, 66 FR 27459
Section 3 | Applicability | 12/11/00 | 5/17/01, 66 FR 27459
Section 4 | Definitions | 12/11/00 | 5/17/01, 66 FR 27459
Section 5 | General Provisions | 12/11/00 | 5/17/01, 66 FR 27459
Section 6 | NOX Authorized Account Representative for NOX Budget Sources | 12/11/00 | 5/17/01, 66 FR 27459
Section 7 | Permits | 12/11/00 | 5/17/01, 66 FR 27459
Section 8 | Monitoring and Reporting | 12/11/00 | 5/17/01, 66 FR 27459
Section 9 | NATS | 12/11/00 | 5/17/01, 66 FR 27459
Section 10 | NOX Allowance Transfers | 12/11/00 | 5/17/01, 66 FR 27459
Section 11 | Compliance Certification | 12/11/00 | 5/17/01, 66 FR 27459
Section 12 | End-of-Season Reconciliation | 12/11/00 | 5/17/01, 66 FR 27459
Section 13 | Failure to Meet Compliance Requirements | 12/11/00 | 5/17/01, 66 FR 27459
Section 14 | Individual Unit Opt-Ins | 12/11/00 | 5/17/01, 66 FR 27459
Section 15 | General Accounts | 12/11/00 | 5/17/01, 66 FR 27459
Appendix A | Allowance Allocations to NOX Budget Units Under Section 3(a)(1)(i) and 3(a)(1)(ii) of Regulation No. 39 | 12/11/00 | 5/17/01, 66 FR 27459
Appendix B | Regulation No. 37—Regulation No. 39 Program Transition | 12/11/00 | 5/17/01, 66 FR 27459
Regulation 40 Delaware's National Low Emission Vehicle (NLEV) Regulation
Section 1 | Applicability | 10/11/99 | 12/28/99, 64 FR 72564 | Issued on September 1, 1999 by Secretary's Order No. 99-A-0046.
Section 2 | Definitions | 10/11/99 | 12/28/99, 64 FR 72564
Section 3 | Program Participation | 10/11/99 | 12/28/99, 64 FR 72564
Regulation 41 Limiting Emissions of Volatile Organic Compounds From Consumer and Commercial Products
Section 1 | Architectural and Industrial Maintenance Coatings | 03/11/02 | 11/22/02, 67 FR 70315
Section 2 | Commercial Products | 01/11/02 | 11/22/02, 67 FR 70315
Section 3 | Portable Fuel Containers | 11/11/01 | 11/22/02, 67 FR 70315
Regulation 42 Specific Emission Control Requirements
Section 1 | Control of NOX Emissions from Industrial Boilers | 12/11/01 | 11/22/02, 67 FR 70315

(d) EPA approved State source-specific requirements.

EPA-Approved Delaware Source-Specific Requirements
Name of source | Permit No. | State effective date | EPA approval date | Additional explanation
Getty Oil Co | 75-A-4 | 8/5/75 | 3/7/79, 44 FR 12423 | 52.420(c)(11).
Phoenix Steel Co.—Electric | 77-A-8 | 12/2/77 | 7/30/79 | 52.420(c)(12).
Arc Furnaces Charging & Tapping #2 |  |  | 44 FR 25223
Delmarva Power & Light—Indian River | 89-A-7/APC 89/197 | 2/15/89 | 1/22/90, 55 FR 2067 | 52.420(c)(38).
SPI Polyols, Inc | Secretary's Order No. 2000-A-0033 | 7/11/00 | 6/14/01, 66 FR 32231 | Polyhydrate Alcohol's Catalyst Regenerative Process—Approved NOX RACT Determination.
Citisteel | Secretary's Order No. 2000-A-0033 | 7/11/00 | 6/14/01, 66 FR 32231 | Electric Arc Furnace—Approved NOX RACT Determination.
General Chemical Corp | Secretary's Order No. 2000-A-0033 | 7/11/00 | 6/14/01, 66 FR 32231 | (1) Sulfuric Acid Process & Interstage Absorption System.
|  |  |  | (2) Metallic Nitrite Process—Approved NOX RACT Determinations.

* * * * *

[FR Doc. 07-1648 Filed 4-2-07; 8:45 am]

BILLING CODE 6560-50-P